DEPARTMENT OF COMMERCE

International Trade Administration

Initiation of Antidumping and Countervailing Duty Administrative Reviews

AGENCY: Import Administration, International Trade Administration, Department of Commerce.

SUMMARY: The Department of Commerce (the Department) has received requests to conduct administrative reviews of various antidumping and countervailing duty orders and findings with July anniversary dates. In accordance with the Department's regulations, we are initiating those administrative reviews.

EFFECTIVE DATE: August 26, 2008

FOR FURTHER INFORMATION CONTACT: Sheila E. Forbes, Office of AD/CVD Operations, Customs Unit, Import Administration, International Trade Administration, U.S. Department of Commerce, 14th Street and Constitution Avenue, NW, Washington, DC 20230, telephone: (202) 482-4697.

SUPPLEMENTARY INFORMATION:

Background

The Department has received timely requests, in accordance with 19 CFR 351.213(b)(2002), for administrative reviews of various antidumping and countervailing duty orders and findings with July anniversary dates.

Respondent Selection

In the event the Department limits the number of respondents for individual examination for administrative reviews, the Department intends to select respondents based on U.S. Customs and Border Protection (CBP) data for U.S. imports during the period of review (POR). We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991) (“Sparklers”), as amplified by Final Determination of Sales at Less Than Fair Value: Silicon Carbide from the People's Republic of China, 59 FR 22585 (May 2,1994) (“Silicon Carbide”).

In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's website at http://www.trade.gov/ia on the date of publication of this Federal Register. In responding to the certification, please follow the “Instructions for Filing the Certification” in the Separate Rate Certification. Separate Rate Certifications are due to the Department no later than 30 calendar days of publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's website at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

Initiation of Reviews:

In accordance with 19 CFR 351.221(c)(1)(i), we are initiating administrative reviews of the following antidumping and countervailing duty orders and findings. We intend to issue the final results of these reviews not later than July 31, 2009.

Antidumping Duty Proceedings | Period to be Reviewed
FINLAND: Purified Carboxymethylcellulose
A-405-803 | 7/1/07—6/30/08
CP Kelco Oy
INDIA: Polyethylene Terephthalate (PET) Film
A-533-824 | 7/1/07—6/30/08
Jindal Poly Films Limited of India
ITALY: Certain Pasta
A-475-818 | 7/1/07—6/30/08
Arrighi, S.p.A.
Domenico Paone fu Erasmo S.p.A.
F. Divella SpA
Industria Alimentare Colavita, S.p.A.
P.A.M. S.p.A.
Pasta Lensi
Pasta Zara SpA
Pastificio Di Martino Gaetano & F.lli S.r.L.
Pastificio Felicetti S.r.L.
Pastificio Fratelli Pagani S.p.A.
Pastificio Labor S.r.L.
Pastificio Lucio Garafalo
Pastificio Riscossa F.Illi Mastromauro S.r.L.
Rummo S.p.A. Molino e Pastificio
Rustichella d'Abruzzo S.p.A.
JAPAN: Stainless Steel sheet and Strip in Coils
A-588-845 | 7/1/07 6/30/08
Hitachi Cable LLP
Nippon Kinzoku Co., Ltd.
MEXICO: Purified Carboxymethylcellulose
A-201-834 | 7/1/07—6/30/08
Quimica Amtex, S.A. de C.V.
MEXICO: Stainless Steel Sheet and Strip in Coils
A-201-822 | 7/1/07—6/30/08
ThyssenKrupp Mexinox S.A. de C.V.
SWEDEN: Purified Carboxymethylcellulose
A-401-808 | 7/1/07—6/30/08
CP Kelco AB
TAIWAN: Stainless Steel Sheet and Strip in Coils
A-583-831 | 7/1/07—6/30/08
Ta Chen Stainless Pipe Co., Ltd.
Yieh United Steel Corporation
Chia Far Industrial Factory Co., Ltd.
China Steel Corporation
Dah Shi Metal Industrial Co., Ltd.
KNS Enterprise Co., Ltd.
Lih Chan Steel Co., Ltd.
Tang Eng Iron Works
PFP Taiwan Co., Ltd.
Yieh Loong Enterprise Co., Ltd. (aka Chung Hung Steel Co., Ltd.)
Yieh Trading Corp.
Tibest International, Inc.
Goang Jau Shing Enterprise Co., Ltd.
Yieh Mau Corp.
Maytun International Corp.
Shih Yuan Stainless Steel Enterprise Co., Ltd.
Chien Shing Stainless Co.
Chain Chon Industrial Co., Ltd.
Emerdex Stainless Flat-Rolled Products, Inc.
Emerdex Stainless Steel, Inc.
Emerdex Group
Waterson Corp.
Well Harvest Metal Co., Ltd.
THAILAND: Carbon Steel Butt Weld Pipe Fittings
A-549-807 | 7/1/07—6/30/08
Thai Benkan Co., Ltd.
THE NETHERLANDS: Purified Carboxymethylcellulose
A-421-811 | 7/1/07—6/30/08
CP Kelco BV
Akzo Nobel Functional Chemicals, B.V.
THE PEOPLE'S REPUBLIC OF CHINA: Persulfates¹
A-570-847 | 7/1/07—6/30/08
Degussa-AJ Shanghai Initiators Co., Ltd.
Shanghai AJ Import & Export Corporation
Countervailing Duty Proceedings
INDIA: Polyethylene Terephthalate (PET) Film
C-533-825 | 1/1/07—12/31/07
Jindal Poly Films Limited of India
ITALY: Certain Pasta
C-475-819 | 1/1/07—12/31/07
DeMatteis Agroalimentare S.p.A.
F.lli De Cecco di Filippo Fara San Martino S.p.A.
Suspension Agreements
None.
¹ If one of the above named companies does not qualify for a separate rate, all other exporters of Persulfates from the People's Republic of China who have not qualified for a separate rate are deemed to be covered by this review as part of the single PRC entity of which the named exporters are a part.

During any administrative review covering all or part of a period falling between the first and second or third and fourth anniversary of the publication of an antidumping order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 USC 1675(a)) and 19 CFR 351.221(c)(1)(i).

Dated: August 20, 2008.
Eward C. Yang,
Acting Deputy Assistant Secretary for Import Adminstration.

[FR Doc. E8-19776 Filed 08-25-08; 8:45 am]

Billing Code: 3510-DS-S